DEPARTMENT OF COMMERCE

International Trade Administration

DEPARTMENT OF THE INTERIOR

15 CFR Part 303

[Docket No. 061006261-6261-01]

RIN 0625-AA72

Office of Insular Affairs; Insular Possessions Watch, Watch Movement and Jewelry Programs

AGENCY: Import Administration, International Trade Administration, Department of Commerce; Office of Insular Affairs, Department of the Interior.

ACTION: Advanced Notice of Proposed Rulemaking.

SUMMARY: The Departments of Commerce and the Interior jointly administer the Insular Possessions Watch Program. Under this program, insular possessions watch producers may receive duty-free treatment of certain watches imported into the customs territory of the United States. This action invites comments from insular watch producers and interested parties on possible options for revising the maximum total value of watch components per watch and watch movement that are eligible for duty-free entry into the United States under the insular watch program.

DATES: Comments must be submitted by November 20, 2006.

ADDRESSES: Written comments should be sent to Faye Robinson, Director, Statutory Import Programs Staff, Room 2104, U.S. Department of Commerce, 14th and Constitution Ave., NW., Washington, DC 20230.

FOR FURTHER INFORMATION CONTACT: Faye Robinson, (202) 482-3526.

SUPPLEMENTARY INFORMATION: The Departments of Commerce and the Interior (the Departments) administer the watch duty-exemption allocations and the watch and jewelry duty-refund benefits for producers in the United States insular possessions (the U.S. Virgin Islands, Guam, American Samoa and the Commonwealth of the Northern Mariana Islands) in accordance with Public Law 97-446, as amended by Public Law 103-465, Public Law 106-36 and Public Law 108-429.

Currently, the insular watch program does not allow watch movements and watches assembled from components with a value of more than $35 for watch movements and $800 for watches to receive program duty exemption benefits as set forth in Section 303.14(b)(3) of the Department of Commerce's regulations (15 CFR 303.14(b)(3)) even if the watch movements and watches have met all other program requirements. On July 25, 2006, we received a letter from the U.S. Virgin Islands Watch & Jewelry Manufacturers Association requesting that the Department of Commerce reexamine the current value limits for watches which are assembled in the U.S. Virgin Islands. The Association asserted that the cost of gold has more than doubled in the past year, making it impossible to continue a viable and steady production of gold watches.

In light of the foregoing, the Departments would like to receive comment on whether to change the maximum value of watch components per watch and watch movement that are eligible for benefits under the program and, if so, what that value might be. In particular, we are interested in receiving comments on four options:

• Leave the maximum value of watch components per watch and watch movement at their current level.

• Raise the maximum value of a watch components per watch to $1,250 and watch movement to $50.

• Remove any restriction on the value of watch components per watch and watch movement.

• Index the maximum value of watch components per watch to the New York spot gold index price per day as reported in the Wall Street Journal and leave the value of the watch movement components at the current level.

Persons wishing to comment should submit a signed original copy of comments by the due date. The Departments will consider all comments received by the due date. Comments received after the due date will be considered, if possible, but their consideration cannot be assured.

Classification

Executive Order 12866: This action has been determined to be not significant under Executive Order 12866.

Dated: October 13, 2006.
David Spooner,
Assistant Secretary for Import Administration, Department of Commerce.
Dated: October 13, 2006.
Nikolao Pula,
Director for Office of Insular Affairs, Department of the Interior.

[FR Doc. 06-8818 Filed 10-19-06; 8:45 am]

BILLING CODE 3510-DS-P, 4310-93-P